DEPARTMENT OF EDUCATION

National Institute on Disability and Rehabilitation Research—Disability and Rehabilitation Research Projects and Centers Program—Rehabilitation Research and Training Centers (RRTCs)

AGENCY: Office of Special Education and Rehabilitative Services, Department of Education.

ACTION: Notice of proposed priority for a RRTC on Vocational Rehabilitation.

SUMMARY: The Assistant Secretary for Special Education and Rehabilitative Services proposes a priority on vocational rehabilitation under the Disability and Rehabilitation Research Projects and Centers Program administered by the National Institute on Disability and Rehabilitation Research (NIDRR). The Assistant Secretary may use this priority for competitions in fiscal year (FY) 2007 and later years. We take this action to focus research attention on areas of national need. We intend this priority to improve rehabilitation services and outcomes for individuals with disabilities.

DATES: We must receive your comments on or before April 26, 2007.

ADDRESSES: Address all comments about this proposed priority to Donna Nangle, U.S. Department of Education, 400 Maryland Avenue, SW., Room 6030, Potomac Center Plaza, Washington, DC 20204-2700. If you prefer to send your comments through the Internet, use the following address: donna.nangle@ed.gov.

FOR FURTHER INFORMATION CONTACT: Donna Nangle. Telephone: (202) 245-7462.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

Invitation to Comment

We invite you to submit comments regarding this proposed priority.

We invite you to assist us in complying with the specific requirements of Executive Order 12866 and its overall requirement of reducing regulatory burden that might result from this proposed priority. Please let us know of any further opportunities we should take to reduce potential costs or increase potential benefits while preserving the effective and efficient administration of the program.

During and after the comment period, you may inspect all public comments on this notice of proposed priority in room 6030, 550 12th Street, SW., Potomac Center Plaza, Washington, DC, between the hours of 8:30 a.m. and 4 p.m., eastern time, Monday through Friday of each week except Federal holidays.

Assistance to Individuals With Disabilities in Reviewing the Rulemaking Record

On request, we will supply an appropriate aid, such as a reader or print magnifier, to an individual with a disability who needs assistance to review the comments or other documents in the public rulemaking record for this notice of proposed priority. If you want to schedule an appointment for this type of aid, please contact the person listed under FOR FURTHER INFORMATION CONTACT.

We will announce the final priority in a notice in the Federal Register. We will determine the final priority after considering responses to this notice and other information available to the Department. This notice does not preclude us from proposing or using additional priorities or selection criteria, subject to meeting applicable rulemaking requirements.

Note: This notice does not solicit applications. In any year in which we choose to use this proposed priority, we invite applications through a notice in the Federal Register. When inviting applications we designate the priority as absolute, competitive preference, or invitational. The effect of each type of priority follows:

Absolute priority: Under an absolute priority, we consider only applications that meet the priority (34 CFR 75.105(c)(3)).

Competitive preference priority: Under a competitive preference priority, we give competitive preference to an application by either: (1) Awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

SUPPLEMENTARY INFORMATION: This notice of proposed priority is in concert with President George W. Bush's New Freedom Initiative (NFI) and NIDRR's Final Long-Range Plan for FY 2005-2009 (Plan). The NFI can be accessed on the Internet at the following site: http://www.whitehouse.gov/infocus/newfreedom.

The Plan, which was published in the Federal Register on February 15, 2006 (71 FR 8165), can be accessed on the Internet at the following site: http://www.ed.gov/about/offices/list/osers/nidrr/policy.html.

Through the implementation of the NFI and the Plan, NIDRR seeks to—(1) Improve the quality and utility of disability and rehabilitation research; (2) Foster an exchange of expertise, information, and training to facilitate the advancement of knowledge and understanding of the unique needs of traditionally underserved populations; (3) Determine best strategies and programs to improve rehabilitation outcomes for underserved populations; (4) Identify research gaps; (5) Identify mechanisms of integrating research and practice; and (6) Disseminate findings.

Rehabilitation Research and Training Centers (RRTCs)

RRTCs conduct coordinated and integrated advanced programs of research targeted toward the production of new knowledge to improve rehabilitation methodology and service delivery systems, alleviate or stabilize disability conditions, or promote maximum social and economic independence for persons with disabilities. Additional information on the RRTC program can be found at: http://www.ed.gov/rschstat/research/pubs/res-program.html#RRTC.

General Requirements of RRTCs

RRTCs must—

• Carry out coordinated advanced programs of rehabilitation research;

• Provide training, including graduate, pre-service, and in-service training, to help rehabilitation personnel more effectively provide rehabilitation services to individuals with disabilities;

• Provide technical assistance to individuals with disabilities, their representatives, providers, and other interested parties;

• Demonstrate in their applications how they will address, in whole or in part, the needs of individuals with disabilities from minority backgrounds;

• Disseminate informational materials to individuals with disabilities, their representatives, providers, and other interested parties; and

• Serve as centers of national excellence in rehabilitation research for individuals with disabilities, their representatives, providers, and other interested parties.

Priority

Background

Approximately 56 percent of working-age individuals with disabilities are employed, including 42 percent of those with severe disabilities, compared to the 88 percent of working-age individuals who do not have a disability who are employed (U.S. Census Bureau, 2002). The rate of employment among individuals with disabilities varies by type of disabling condition and severity of disability (U.S. Census Bureau, 2002).

As authorized under title I of the Rehabilitation Act of 1973, as amended, the Vocational Rehabilitation (VR) program, which is administered by the Rehabilitation Services Administration (RSA), has been providing employment services to individuals with disabilities for more than eight decades. With agencies in every State and Territory, the VR program annually achieves more than 200,000 employment outcomes for individuals with disabilities, as the term employment outcome is defined in 34 CFR 361.5(b)(16).

The VR program exists within a complex and dynamic network of Federal and State policies and programs that provide employment services to individuals with disabilities with the purpose of obtaining employment outcomes and increasing earnings from employment. At the Federal level, these efforts include, but are not limited to, the Social Security Administration's Ticket to Work Program and other related work incentive and benefits planning initiatives, and the Department of Labor's “one-stop” career center program, which is part of the array of programs authorized under the Workforce Investment Act. At the State level, programs that provide employment services to individuals with disabilities include State developmental disability agencies and State mental health agencies. These and other State level agencies often use funds provided by the Centers for Medicare and Medicaid Services (CMS) through Medicaid waiver programs and Medicaid infrastructure grants, and may benefit from CMS Medicaid buy in provisions. Services to individuals are either delivered directly by State and local government agencies or by community non-governmental organizations (community NGOs). The differing arrangements and funding of State programs and the interaction of State, Federal and other programs and funding sources create a variety of complex employment service delivery structures for individuals with disabilities.

A strategic partnership between RSA and NIDRR, both of which are located in the Department's Office of Special Education and Rehabilitative Services, provides an opportunity to develop systematic knowledge of the variations in these complex and dynamic State-level structures, and the VR program's role and position within them. This new knowledge will provide the VR program with an empirical context in which services and service delivery systems and mechanisms can be designed to optimize VR outcomes and the employment of individuals with disabilities.

New knowledge about the VR program and how it relates to other employment policies and programs for individuals with disabilities will also provide an empirical context within which high-quality research on the employment status of individuals with disabilities can be conducted. NIDRR aims to sponsor research that will increase the number of validated interventions to enhance employment outcomes among individuals with disabilities (NIDRR Long Range Plan, 2005-2009). Without adequate knowledge of the complex and dynamic environment of policies and programs in which employment interventions are delivered to individuals with disabilities, research on those interventions is likely to lack validity and real-world applicability.

In addition to detailed information about the structure of disability employment services, service providers and researchers also require information about successful practices for prioritizing and providing services to individuals with the most significant disabilities. Section 101(a)(5) of the Rehabilitation Act requires that individuals with the most significant disabilities be selected first for VR services. Interpretation and implementation of this statutory requirement varies widely across the States. Research is needed to identify best practices for prioritizing the delivery of VR services to individuals with the most significant disabilities.

New knowledge about successful practices for serving individuals with the most significant disabilities is also needed. Individuals with developmental disabilities and mental illness have been identified as subpopulations that have particularly low rates of employment (U.S. Census Bureau, 2002). Identification of best practices for serving and placing individuals with these conditions will inform service delivery practice, and create intervention-related hypotheses that can be evaluated through rigorous research.

References

National Institute on Disability and Rehabilitation Research (2005). NIDRR Long-Range Plan: 2005-2009. See http://www.ed.gov/about/offices/list/osers/nidrr/policy.html.

U.S. Census Bureau (2002). Survey of Income and Program Participation. Table 5: Disability Status, Employment, and Annual Earnings: Individuals 21 to 64 Years Old: 2002. See http://www.census.gov/hhes/www/disability/sipp/disable02.html.

Proposed Priority

The Assistant Secretary for Special Education and Rehabilitative Services proposes a priority for the funding of a Rehabilitation Research and Training Center (RRTC) on Vocational Rehabilitation (VR) Services. The RRTC must conduct research on the complex employment service delivery structures for individuals with disabilities, investigate “best VR practices” in certain critical areas, and provide training and technical assistance in order to improve VR services and employment outcomes among individuals with disabilities. Under this priority, the RRTC must contribute to the following outcomes:

(a) A foundation of available knowledge about the VR program's characteristics and outcomes. The RRTC must contribute to this outcome by conducting a literature review and creating a synthesis of previous research on the system-level characteristics of the VR program, and outcomes associated with those characteristics. This review and synthesis will inform the subsequent research, training, and evaluation efforts of the RRTC.

(b) Increased knowledge about the broad constellation of Federal and State policies and programs through which employment services are delivered to individuals with disabilities, and the characteristics of individuals with disabilities who are receiving those services. The RRTC must contribute to this outcome by researching and providing a detailed State-by-State description of the larger employment services network and the role of the VR program within it. This research must identify and describe key characteristics of Federal, State and local government entities and community non-governmental organizations that either directly deliver or directly purchase employment services for individuals with disabilities.

(c) Increased knowledge of the structure and operations of VR service delivery practices at the State level. The RRTC must contribute to this outcome by researching and providing a detailed description of the key characteristics of each State's VR system. These characteristics should include, but not be limited to, VR service delivery structure and practices, patterns of resource allocation, patterns of internal and external provision of services, the extent to which the VR agency uses cooperative agreements with other agencies to deliver services, operational definitions of “individuals with the most significant disabilities,” characteristics of clients, employment outcomes and settings, the level of integration of work settings, the extent of use of home-based employment, and means of addressing transportation barriers. This research must describe elements internal to each State's VR agency or agencies, and provide a base upon which future researchers can analyze the operational consequences and outcomes of different internal arrangements and agency decisions.

(d) Increased knowledge of “best VR practices” for prioritizing and providing services to individuals with the most significant disabilities. The RRTC must contribute to this outcome by conducting research on the extent to which individuals with the most significant disabilities are given priority for services from their respective State VR programs, and identifying best practices among the State VR programs in ensuring that individuals with the most significant disabilities receive services on a priority basis. Collection and analysis of data for this research must be coordinated with and informed by research on the disability employment service and VR structures described in paragraphs (b) and (c) of this priority. This coordination will allow “best practices” findings to be properly contextualized, and therefore more likely to be successfully applied in other States or agencies.

(e) Increased knowledge of “best VR practices” for individuals with developmental disabilities (DD) and individuals with mental illness (MI). The RRTC must contribute to this outcome by conducting research on best practices for placing or retaining individuals with DD and individuals with MI in jobs. Collection and analysis of data for this best practices research must be coordinated with and informed by research on the disability employment service and VR structures described in paragraphs (b) and (c) of this priority. This coordination will allow “best practices” findings to be properly contextualized, and therefore more likely to be successfully applied in other States or agencies.

(f) Enhancement of the knowledge base of State and Federal administrators of the VR program and other employment programs for individuals with disabilities, through disseminating research results and providing training and technical assistance based on the new knowledge about the disability employment service structures described in paragraphs (b) and (c) of this priority, and “best practices” knowledge described in paragraphs (d) and (e) of this priority.

In addition, this RRTC must:

• Collaborate with RSA's technical assistance mechanisms to effectively disseminate best practices materials developed in the research component of this RRTC.

• Coordinate its research, dissemination, training, and technical assistance efforts with grantees in NIDRR's Employment domain, as appropriate.

Executive Order 12866

This notice of proposed priority has been reviewed in accordance with Executive Order 12866. Under the terms of the order, we have assessed the potential costs and benefits of this regulatory action.

The potential costs associated with the notice of proposed priority are those resulting from statutory requirements and those we have determined as necessary for administering these programs effectively and efficiently.

In assessing the potential costs and benefits—both quantitative and qualitative—of this notice of proposed priority, we have determined that the benefits of the proposed priority justify the costs.

Summary of potential costs and benefits: The potential costs associated with this proposed priority are minimal while the benefits are significant.

The benefits of the Rehabilitation Research and Training Centers have been well established over the years in that similar projects have been completed successfully. This proposed priority will generate new knowledge and technologies through research, development, dissemination, utilization, and technical assistance projects.

Another benefit of this proposed priority is that the establishment of a new RRTC conducting research projects will support the President's NFI and will improve the lives of persons with disabilities. This RRTC will generate, disseminate, and promote the use of new information that will improve the options for individuals with disabilities to perform regular activities in the community.

Applicable Program Regulations: 34 CFR part 350.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.133B, Rehabilitation Research and Training Centers Program.)

Program Authority: 29 U.S.C. 762(g) and 764(b)(2).

Dated: March 22, 2007.
John H. Hager,
Assistant Secretary for Special Education and Rehabilitative Services.

[FR Doc. E7-5590 Filed 3-26-07; 8:45 am]

BILLING CODE 4000-01-P